DEPARTMENT OF HOMELAND SECURITY

Coast Guard

33 CFR Part 165

[Docket No. USCG-2008-0384]

Special Local Regulations; Safety Zones; Recurring Events in Captain of the Port Long Island Sound

AGENCY: Coast Guard, DHS.

ACTION: Notice of enforcement of regulation.

SUMMARY: The Coast Guard will enforce two fireworks display safety zones in the Sector Long Island Sound area of responsibility on various dates and times listed in the table below. This action is necessary to provide for the safety of life on navigable waterways during these fireworks displays. During the enforcement period, no person or vessel may enter the safety zones without permission of the Captain of the Port (COTP) Sector Long Island Sound or designated representative.

DATES: The regulations in 33 CFR 165.151 will be enforced during the dates and time shown in Table 1 in the SUPPLEMENTARY INFORMATION.

FOR FURTHER INFORMATION CONTACT: If you have questions on this notice, call or email Petty Officer Joseph Graun Prevention Department U.S. Coast Guard Sector Long Island Sound (203) 468-4544, joseph.L.Graun@uscg.mil.

SUPPLEMENTARY INFORMATION: The Coast Guard will enforce the safety zones listed in 33 CFR 165.151 on the specified dates and times as indicated in tables above. If the event is delayed by inclement weather, the regulation will be enforced on the rain date indicated in tables below. These regulations were published in the Federal Register on February 10, 2012 (77 FR 6954).

Table 1 to § 165.151
| August
8.5 Old Black Point Beach Association Fireworks | • Date: August 18, 2012. • Rain Date: August 19, 2012.
| • Location: Waters off Old Black Point Beach East Lyme, CT in approximate position, 41°17′34.9″ N, 072°12′55″ W (NAD 83).
| September
9.3 Village of Island Park Labor Day Celebration Fireworks | • Date: September 1, 2012. • Rain Date: September 2, 2012. • Location: Waters off Village of Island Park Fishing Pier, Village Beach, NY in approximate position 40°36′30.95″ N, 073°39′22.23″ W (NAD 83).

Under the provisions of 33 CFR 165.151, the fireworks displays listed above are established as safety zones. During these enforcement periods, persons and vessels are prohibited from entering into, transiting through, mooring, or anchoring within the safety zones unless they receive permission from the COTP or designated representative.

This notice is issued under authority of 33 CFR part 165 and 5 U.S.C. 552(a). In addition to this notice in the Federal Register, the Coast Guard will provide the maritime community with advance notification of this enforcement period via the Local Notice to Mariners or marine information broadcasts. If the COTP determines that a regulated area need not be enforced for the full duration stated in this notice, a Broadcast Notice to Mariners may be used to grant general permission to enter the regulated area.

Dated: July 31, 2012.
J.M. Vojvodich,
Captain, U.S. Coast Guard, Captain of the Port Sector Long Island Sound.

[FR Doc. 2012-21382 Filed 8-29-12; 8:45 am]

BILLING CODE 9110-04-P